RAILROAD RETIREMENT BOARD

Agency Forms Submitted for OMB Review, Request for Comments

Summary: In accordance with the Paperwork Reduction Act of 1995, the Railroad Retirement Board (RRB) is forwarding an Information Collection Request (ICR) to the Office of Information and Regulatory Affairs (OIRA), Office of Management and Budget (OMB). Our ICR describes the information we seek to collect from the public. Review and approval by OIRA ensures that we impose appropriate paperwork burdens.

The RRB invites comments on the proposed collections of information to determine (1) the practical utility of the collections; (2) the accuracy of the estimated burden of the collections; (3) ways to enhance the quality, utility, and clarity of the information that is the subject of collection; and (4) ways to minimize the burden of collections on respondents, including the use of automated collection techniques or other forms of information technology. Comments to the RRB or OIRA must contain the OMB control number of the ICR. For proper consideration of your comments, it is best if the RRB and OIRA receive them within 30 days of the publication date.

Title and purpose of information collection: Medicare; OMB 3220-0082.

Under Section 7(d) of the Railroad Retirement Act (RRA) (45 U.S.C. 231f), the Railroad Retirement Board (RRB) administers the Medicare program for persons covered by the railroad retirement system. The RRB uses Form AA-6, Employee Application for Medicare; Form AA-7, Spouse/Divorced Spouse Application for Medicare; and Form AA-8, Widow/Widower Application for Medicare; to obtain the information needed to determine whether individuals who have not yet filed for benefits under the RRA are qualified for Medicare payments provided under Title XVIII of the Social Security Act. Further, to determine if any qualified railroad retirement beneficiary who is claiming supplementary medical insurance coverage under Medicare is entitled to a Special Enrollment Period (SEP) and/or premium surcharge relief because of coverage under an Employer Group Health Plan (EGHP), the RRB needs to obtain information regarding the claimant's EGHP coverage, if any. The RRB uses Form RL-311-F, Evidence of Coverage Under An Employer Group Health Plan, to obtain the basic information needed to establish EGHP coverage for a qualified railroad retirement beneficiary.

The RRB will use new Form AA-23, Application For Medicare—Medical Insurance (Part B) Program, to obtain information from a quailed railroad retirement beneficiary to determine if they are eligible to enroll through the Initial Enrollment Period, Special Enrollment Period, or General Enrollment Period.

The RRB will use new Form AA-24, Application for Medicare Part B—Special Enrollment Period (Exceptional Conditions), to obtain the information needed to determine if a qualified railroad retirement beneficiary is entitled to a SEP because of an exceptional condition.

One response is requested of each respondent.

Previous Requests for Comments: The RRB has already published the initial 60-day notice (90 8165 on January 24, 2025) required by 44 U.S.C. 3506(c)(2). That request elicited no comments.

Information Collection Request (ICR)

Title: Medicare.

OMB Control Number: 3220-0082.

Form(s) submitted: AA-6, AA-7, AA-8, AA-23, AA-24, and RL-311-F.

Type of request: Revision of a currently approved collection.

Affected public: Individuals or Households.

Abstract: The Railroad Retirement Board administers the Medicare program for persons covered by the railroad retirement system. The forms in the collection obtain both information needed to enroll non-retired employees and survivor applicants in the plan and information from railroad employers needed to determine if a railroad retirement beneficiary is entitled to a special enrollment period when applying for supplemental medical coverage under Medicare.

Changes proposed: The RRB proposes changes to the following forms in this collection:

• Form AA-6

○ Added “OR SOCIAL SECURITY ADMINISTRATION NUMBER” and “OR BIC” to Question 2,

○ Removed “COUNTY” from Question 4 due to this data no longer being in use,

○ Added “U.S. Space Force” to the list of military service options to Question 13,

○ Added the following clarifying language to Section 4:

“Initial Enrollment Period (IEP) is the 7-month period when you are first eligible for Medicare. This period begins 3 months before you turn 65, includes the month you turn 65, and ends 3 months after you turn 65. Coverage begins the month after you signs up during your IEP.

You are eligible for a Special Enrollment period (SEP) enrollment if you are age 65 or older, or under age 65 and disabled, and did not select to be enrolled in Medicare Part B coverage when you became eligible and are covered under an employer group health plan based on your own or your spouse's current employment.

The General Enrollment Period (GEP) is the time period every year from January 1 to March 31 when you can enroll in Medicare Part B for the first time if you missed your Initial Enrollment Period (IEP) and do not qualify for the Part B Special Enrollment Period (SEP).”,

○ Added “GEP” as an option to Question 19 to allow for all potential options, and

○ Added attestation section for individual to provide additional details pertaining their enrollment.

• Form AA-7

○ Added “OR SOCIAL SECURITY ADMINISTRATION NUMBER” and “OR BIC” in Question 2,

○ Removed “COUNTY” from Question 5 due to this data no longer being in use,

○ Added “U.S. Space Force” to the list of military service options to Question 18,

○ Added the clarifying language to Section 5:

“Initial Enrollment Period (IEP) is the 7-month period when you are first eligible for Medicare. This period begins 3 months before you turn 65, includes the month you turn 65, and ends 3 months after you turn 65. Coverage begins the month after you signs up during your IEP.

You are eligible for a Special Enrollment period (SEP) enrollment if you are age 65 or older, or under age 65 and disabled, and did not select to be enrolled in Medicare Part B coverage when you became eligible and are covered under an employer group health plan based on your own or your spouse's current employment.

The General Enrollment Period (GEP) is the time period every year from January 1 to March 31 when you can enroll in Medicare Part B for the first time if you missed your Initial Enrollment Period (IEP) and do not qualify for the Part B Special Enrollment Period (SEP).”,

○ Added “GEP” as an option to Question 27 to allow for all potential options, and

○ Added “Attestation Section” for individual to provide additional details pertaining their enrollment.

• Form AA-8

○ Updated Section 1 to reflect 2024 in the data example,

○ Added “OR SOCIAL SECURITY ADMINISTRATION NUMBER” and “OR BIC” to Question 2,

○ Removed “COUNTY” from Question 5 due to this data no longer being in use, and

○ Added “Attestation Section” for individual to provide additional details pertaining their enrollment.

• Form RL-311-F

○ Added the option to return the form by facsimile,

○ Added a note to Question 3 advising to include previous coverage dates if healthcare providers were changed during the beneficiary's employment,

○ Changed Question 4 to replace “working with employed” with “an employment start date for the employee”,

○ Changed Question 4 from “see below for additional information” to “see page 2 for additional information.”,

○ Changed “Medicare Part B (Medical Insurance)” to “Medicare Medical Insurance (Part B)” and replaced “is entitled” with “is eligible” in the form's introductory paragraph,

○ Updated gender pronouns to reflect gender neutral `they' designations instead of male and female pronouns in page 2 disclaimer in Question 4, and

○ Added “Attestation Section” for individual to provide additional details pertaining their enrollment.

• Added Form AA-23 to the collection.

• Added Form AA-24 to the collection.

The burden estimate for the ICR is as follows:

Form No. | Annual responses | Time (minutes) | Burden (hours)
AA-6 | 180 | 8 | 24
AA-7 | 50 | 8 | 7
AA-8 | 10 | 8 | 1
AA-23 | 1,000 | 5 | 1
AA-24 | 600 | 10 | 2
RL-311-F | 2,000 | 10 | 333
Total | 3,840 |  | 368

Additional Information or Comments: Copies of the forms and supporting documents or comments regarding the information collection should be addressed to Brian Foster, Railroad Retirement Board, 844 North Rush Street, Chicago, Illinois 60611-1275 or emailed to Brian.Foster@rrb.gov.

Written comments and recommendations for the proposed information collection should be sent within 30 days of publication of this notice to www.reginfo.gov/public/do/PRAMain. Find this particular information collection by selecting “Currently under 30-day Review—Open for Public Comments” or by using the search function.

Brian Foster,
Clearance Officer.

[FR Doc. 2025-05360 Filed 3-27-25; 8:45 am]

BILLING CODE 7905-01-P